DEPARTMENT OF COMMERCE

International Trade Administration

[A-570-933]

Notice of Correction to Antidumping Duty Order: Frontseating Service Valves From the People's Republic of China

AGENCY: Import Administration, International Trade Administration, Department of Commerce.

DATES: Effective Date: June 1, 2009.

FOR FURTHER INFORMATION CONTACT: Eugene Degnan at (202) 482-0414, Import Administration, International Trade Administration, U.S. Department of Commerce, 14th Street and Constitution Avenue, NW., Washington, DC 20230.

SUPPLEMENTARY INFORMATION:

Background

On March 13, 2009, the Department published the final determination of sales at less than fair value of frontseating service valves (“FSVs”) from the People's Republic of China (“PRC”). See Frontseating Service Valves From the People's Republic of China: Final Determination of Sales at Less Than Fair Value and Final Negative Determination of Critical Circumstances, 74 FR 10886 (March 13, 2009) (“Final Determination”). On April 21, 2009, the International Trade Commission (“ITC”) notified the Department of Commerce (“the Department”) of its final determination pursuant to section 735(d) of the Tariff Act of 1930, as amended (“the Act”), that an industry in the United States is materially injured within the meaning of section 735(b)(1)(A)(i) of the Act by reason of less-than-fair-value imports of FSVs from the PRC. See Letter from the ITC to the Secretary of Commerce, “Notification of Final Affirmative Determination of Frontseating Service Valves from the People's Republic of China,” Investigation No. 731-TA-1148 (April 21, 2009); see also Frontseating Service Valves From China; Determination, 74 FR 19107 (April 27, 2009). On April 28, 2009, pursuant to section 736(a) of the Act, the Department published the antidumping duty order on FSVs from the PRC. See Antidumping Duty Order: Frontseating Service Valves from the People's Republic of China, 74 FR 19196 (April 28, 2009) (“Order”).

Scope of the Order

The merchandise covered by this order is frontseating service valves, assembled or unassembled, complete or incomplete, and certain parts thereof. Frontseating service valves contain a sealing surface on the front side of the valve stem that allows the indoor unit or outdoor unit to be isolated from the refrigerant stream when the air conditioning or refrigeration unit is being serviced. Frontseating service valves rely on an elastomer seal when the stem cap is removed for servicing and the stem cap metal to metal seat to create this seal to the atmosphere during normal operation.¹

¹ The frontseating service valve differs from a backseating service valve in that a backseating service valve has two sealing surfaces on the valve stem. This difference typically incorporates a valve stem on a backseating service valve to be machined of steel, where a frontseating service valve has a brass stem. The backseating service valve dual stem seal (on the back side of the stem), creates a metal to metal seal when the valve is in the open position, thus, sealing the stem from the atmosphere.

For purposes of the scope, the term “unassembled” frontseating service valve means a brazed subassembly requiring any one or more of the following processes: The insertion of a valve core pin, the insertion of a valve stem and/or O ring, the application or installation of a stem cap, charge port cap or tube dust cap. The term “complete” frontseating service valve means a product sold ready for installation into an air conditioning or refrigeration unit. The term “incomplete” frontseating service valve means a product that when sold is in multiple pieces, sections, subassemblies or components and is incapable of being installed into an air conditioning or refrigeration unit as a single, unified valve without further assembly.

The major parts or components of frontseating service valves intended to be covered by the scope under the term “certain parts thereof” are any brazed subassembly consisting of any two or more of the following components: A valve body, field connection tube, factory connection tube or valve charge port. The valve body is a rectangular block, or brass forging, machined to be hollow in the interior, with a generally square shaped seat (bottom of body). The field connection tube and factory connection tube consist of copper or other metallic tubing, cut to length, shaped and brazed to the valve body in order to create two ports, the factory connection tube and the field connection tube, each on opposite sides of the valve assembly body. The valve charge port is a service port via which a hose connection can be used to charge or evacuate the refrigerant medium or to monitor the system pressure for diagnostic purposes.

The scope includes frontseating service valves of any size, configuration, material composition or connection type. Frontseating service valves are classified under subheading 8481.80.1095, and also have been classified under subheading 8415.90.80.85, of the Harmonized Tariff Schedule of the United States (“HTSUS”). It is possible for frontseating service valves to be manufactured out of primary materials other than copper and brass, in which case they would be classified under HTSUS subheadings 8481.80.3040, 8481.80.3090, or 8481.80.5090. In addition, if unassembled or incomplete frontseating service valves are imported, the various parts or components would be classified under HTSUS subheadings 8481.90.1000, 8481.90.3000, or 8481.90.5000. The HTSUS subheadings are provided for convenience and customs purposes, but the written description of the scope of this proceeding is dispositive.

Correction to Antidumping Duty Order

In the Order, the Department stated that in accordance with section 736(a)(1) of the Act, it will direct U.S. Customs and Border Protection (“CBP”) to assess, upon further information from the Department, antidumping duties equal to the amount by which the normal value of the merchandise exceeds the export price (or the constructed export price) of the merchandise for all relevant entries of FSVs from the PRC. We further stated that these antidumping duties will be assessed on all unliquidated entries of FSVs entered, or withdrawn from the warehouse, for consumption on or after October 22, 2008, the date on which the Department published its notice of preliminary determination in the Federal Register. See Frontseating Service Valves from the People's Republic of China: Preliminary Determination of Sales at Less Than Fair Value, Preliminary Negative Determination of Critical Circumstances, and Postponement of Final Determination, 73 FR 62952 (October 22, 2008) (“Preliminary Determination”).

However, the Department inadvertently neglected to state that section 733(d) of the Act states that instructions issued pursuant to an affirmative preliminary determination may not remain in effect for more than four months except where exporters representing a significant proportion of exports of the subject merchandise request the Department to extend that four-month period to no more than six months. At the request of the exporters that account for a significant proportion of FSVs in the PRC, we extended the four-month period to no more than six months. See Letter from Zhejiang DunAn Precision Industries Co., Ltd., Zhejiang DunAn Hetian Metal Co., Ltd. (“DunAn Hetian”) (October 7, 2008). In the underlying investigation, the six-month period beginning on the date of the publication of the preliminary determination ended on April 20, 2009. Furthermore, section 737(b) of the Act states that definitive duties are to begin on the date of publication of the ITC's final injury determination.

Publication of the ITC final injury determination took place on April 27, 2009. See Frontseating Service Valves From China; Determination, 74 FR 19107 (April 27, 2009). Therefore, in accordance with section 733(d) of the Act and our practice, we will instruct CBP to terminate the suspension of liquidation and to liquidate, without regard to antidumping duties, unliquidated entries of FSVs from the PRC entered, or withdrawn from warehouse, for consumption after April 20, 2009, and through April 26, 2009, the day preceding the date of publication of the ITC's final injury determination in the Federal Register. Suspension of liquidation will resume on and after April 27, 2009, the date of publication of the ITC's final injury determination in the Federal Register.

Pursuant to section 735(c)(1) of the Act, CBP should continue to require, effective April 27, 2009, a cash deposit equal to the estimated weighted-average dumping margins as listed in the Order.

This notice constitutes a correction to the antidumping duty order with respect to FSVs from the PRC. This corrected order is published in accordance with the section 736(a) of the Act and 19 CFR 351.211.

Dated: May 26, 2009.
Ronald K. Lorentzen,
Acting Assistant Secretary for Import Administration.

[FR Doc. E9-12649 Filed 5-29-09; 8:45 am]

BILLING CODE 3510-DS-P